DEPARTMENT OF THE INTERIOR

Bureau of Safety and Environmental Enforcement

[Docket ID BSEE-2015-0006; OMB Control Number 1014-0023; 15XE1700DX EEEE500000 EX1SF0000.DAQ000]

Information Collection Activities: Pollution Prevention and Control; Proposed Collection; Comment Request

ACTION: 60-Day notice.

SUMMARY: To comply with the Paperwork Reduction Act of 1995 (PRA), BSEE is inviting comments on a collection of information that we will submit to the Office of Management and Budget (OMB) for review and approval. The information collection request (ICR) concerns a renewal to the paperwork requirements in the regulations under Subpart C, Pollution Prevention and Control.

DATES: You must submit comments by July 21, 2015.

ADDRESSES: You may submit comments by either of the following methods listed below.

• Electronically go to http://www.regulations.gov. In the Search box, enter BSEE-2015-0006 then click search. Follow the instructions to submit public comments and view all related materials. We will post all comments.

• Email cheryl.blundon@bsee.gov. Mail or hand-carry comments to the Department of the Interior; Bureau of Safety and Environmental Enforcement; Regulations and Standards Branch; ATTN: Cheryl Blundon; 45600 Woodland Road, Sterling, VA 20166. Please reference ICR 1014-0023 in your comment and include your name and return address.

FOR FURTHER INFORMATION CONTACT: Cheryl Blundon, Regulations and Standards Branch at (703) 787-1607 to request additional information about this ICR.

SUPPLEMENTARY INFORMATION: Title: 30 CFR 250, Subpart C, Pollution Prevention and Control.

OMB Control Number: 1014-0023.

Abstract: The Outer Continental Shelf (OCS) Lands Act, 43 U.S.C. 1334, authorizes the Secretary of the Interior to prescribe rules and regulations necessary for the administration of the leasing provisions of that Act related to mineral resources on the OCS. Such rules and regulations will apply to all operations conducted under a lease, right-of-way, or a right-of-use and easement.

Section 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” Section 1843(b) calls for “regulations requiring all materials, equipment, tools, containers, and all other items used on the Outer Continental Shelf to be properly color coded, stamped, or labeled, wherever practicable, with the owner's identification prior to actual use.”

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

Regulations implementing these responsibilities are among those delegated to BSEE. The regulations under 30 CFR 250, Subpart C, pertain to pollution prevention and control on the OCS and any related Notices to Lessees (NTLs) and Operators. BSEE has issued several NTLs to clarify and provide additional guidance on some aspects of the current Subpart C regulations.

We use the information collected under subpart C to ensure that:

• The lessee or operator records the location of items lost overboard to aid in recovery during site clearance activities on the lease;

• operations are conducted according to all applicable regulations, requirements, and in a safe and workmanlike manner;

• discharge or disposal of drill cuttings, sand, and other well solids, including those containing naturally occurring radioactive materials (NORM), are properly handled for the protection of OCS workers and the environment; and

• facilities are inspected daily for the prevention of pollution, and problems observed are corrected.

No questions of a sensitive nature are asked. We protect proprietary information according to the Freedom of Information Act (5 U.S.C. 552) and DOI's implementing regulations (43 CFR 2); and 30 CFR 250.197, Data and information to be made available to the public or for limited inspection. Responses are mandatory or are required to obtain or retain a benefit.

Frequency: On occasion, annually, and as a result of situations encountered depending upon the requirement.

Description of Respondents: Potential respondents comprise Federal oil, gas, or sulphur lessees and/or operators.

Estimated Reporting and Recordkeeping Hour Burden: The currently approved annual reporting burden for this collection is 124,665 hours. In this submission, we are requesting a total of 137,955 burden hours. The following chart details the individual components and respective hour burden estimates of this ICR. In calculating the burdens, we assumed that respondents perform certain requirements in the normal course of their activities. We consider these to be usual and customary and took that into account in estimating the burden.

Burden Table
Citation 30 CFR 250 Subpart C and related NTL(s) | Reporting and recordkeeping requirement * | Hour burden | Average number of annual responses | Annual burden hours
Pollution Prevention
300(b)(1), (2) | Obtain approval to add petroleum-based substance to drilling mud system or approval for method of disposal of drill cuttings, sand, & other well solids, including those containing NORM | Burden covered under APDs or APMs 1014-0025 or 1014-0026. |  | 0
300(c) | Mark items that could snag or damage fishing devices | 1 hour | 133 markings | 133
300(d) | Report and record items lost overboard | 1 hour ea × 2 = 2 hours | 116 reports/records | 232
Subtotal |  |  | 249 responses | 365
Marine Trash and Debris Awareness/Elimination NTL
300(a), (b)(6), (c), (d); NTL | Submit request for training video | 1 hour | 106 requests | 106
| Submit annual report to BSEE on training process and certification | 1.5 hours | 212 records | 318
| Training recordkeeping; make available upon request | 3 hours | 212 records | 636
| Post placards on vessels and structures (exempt from information collection burden because BSEE is providing exact language for the trash and debris warning, similar to the “Surgeon General's Warning” exemption). |  |  | 0
Subtotal |  |  | 530 responses | 1,060
Inspection of Facilities
301; NTL | Inspect drilling/production facilities for pollution; maintain inspection/repair records 2 years | 22 min ea inspection × 365 days p/yr/60 mins p/hr = 134 hours | 898 manned facilities | 120,332
|  | 5 mins every 3rd day (365 days p/yr/3 = 121.6 days × 5 mins p/day/60 mins p/hr) = 10.14 hours | 1,596 unmanned facilities | 16,183
Subtotal |  |  | 2,494 responses | 136,515
300-301 | General departure and alternative compliance requests not specifically covered elsewhere in subpart C regulations | 2.5 hours | 6 requests | 15
Subtotal |  |  | 6 responses | 15
Total Burden |  |  | 3,279 response | 137,955
* In the future, BSEE may require electronic filing of some submissions.

Estimated Reporting and Recordkeeping Non-Hour Cost Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information. . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Dated: May 14, 2015.
Douglas W. Morris,
Chief, Office of Offshore Regulatory Programs.

[FR Doc. 2015-12302 Filed 5-21-15; 8:45 am]

BILLING CODE 4310-VH-P